DEPARTMENT OF HEALTH AND HUMAN SERVICES

Administration for Children and Families

Submission for OMB Review; Tribal Child Support Enforcement Direct Funding Request: 45 CFR 309-Plan (OMB #0970-0218)

AGENCY: Office of Child Support Enforcement; Administration for Children and Families; HHS.

ACTION: Request for Public Comment.

SUMMARY: The Office of Child Support Enforcement (OCSE), Administration for Children and Families (ACF) is requesting a 3-year extension of the 45 CFR 309-Plan (OMB #0970-0218, expiration 3/21/2020). There are no changes requested to this form.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The final rule within 45 CFR part 309, published in the Federal Register on March 30, 2004, contains a regulatory reporting requirement that, in order to receive funding for a Tribal IV-D program a Tribe or Tribal organization must submit a plan describing how the Tribe or Tribal organization meets or plans to meet the objectives of section 455(f) of the Social Security Act, including establishing paternity; establishing, modifying, and enforcing support orders; and locating noncustodial parents. The plan is required for all Tribes requesting funding; however, once a Tribe has met the requirements to operate a comprehensive program, a new plan is not required annually unless a Tribe makes changes to its title IV-D program. If a Tribe or Tribal organization intends to make any substantial or material changes, a Tribal IV-D plan amendment must be submitted for approval. Tribes and Tribal organizations must have an approved plan and submit any required plan amendments in order to receive funding to operate a Tribal IV-D program. This paperwork collection activity is set to expire in March 2020.

Respondents: Tribes and Tribal Organizations.

Annual Burden Estimates
Instrument | Total number of respondents | Number of responses per respondent | Average burden hours per response | Annual burden hours
45 CFR 309-Plan | 60 | 1 | 120 | 7,200
45 CFR 309-New Plan | 2 | 1 | 480 | 960

Estimated Total Annual Burden Hours: 8,160

Authority: 45 CFR 309.

Mary B. Jones,
ACF/OPRE Certifying Officer.

[FR Doc. 2020-03354 Filed 2-19-20; 8:45 am]

BILLING CODE 4184-41-P